DEPARTMENT OF AGRICULTURE

Agricultural Marketing Service

[Doc. No. AMS-DA-15-0028]

Notice of Request for Extension of a Currently Approved Information Collection for Export Certificate Request Forms

AGENCY: Agricultural Marketing Service, USDA.

ACTION: Notice and request for comments.

SUMMARY: In accordance with the Paperwork Reduction Act of 1995 (44 U.S.C. chapter 35), this notice announces the Agricultural Marketing Service's (AMS) intention to request approval, from the Office of Management and Budget, for an extension of and revision to the currently approved information collection Export Certificate Request Forms OMB No. 0581-0283.

DATES: Comments on this notice must be received by October 13, 2015 to be assured of consideration.

ADDRESSES: Comments may be sent to Office of the Deputy Administrator, USDA/AMS/Dairy Programs, Room 2968-S, 1400 Independence Avenue SW., Washington, DC 20090-6465 or may be submitted at the Federal eRulemaking Portal: http://www.regulations.gov. Comments should reference the docket number and the date and page of issue in the Federal Register. All comments received will be available for public inspection during regular business hours at the above address or at www.regulations.gov. The identity of the individuals or entities submitting comments will be made public.

Additional information: Contact Dana Coale, Office of the Deputy Administrator, USDA/AMS/Dairy Programs, Room 2968-S, 1400 Independence Avenue SW., Washington, DC 20090-6465; Tel: 202-720-4392, Fax: 202-690-3410 or via email at: dana.coale@ams.usda.gov.

SUPPLEMENTARY INFORMATION: Title: Export Certificate Request Forms.

OMB Number: 0581-0283.

Expiration Date of Approval: January 31, 2016.

Type of Request: Extension and revision of a currently approved information collection.

Abstract: The dairy grading program is a voluntary user fee program authorized under the Agricultural Marketing Act (AMA) of 1946 (7 U.S.C. 1621-1627). The regulations governing inspection and grading services of manufactured or processed dairy products are contained in 7 CFR part 58. International markets are increasing for United States dairy products. Importing countries are requiring certification as to production methods and sources of raw ingredients for dairy products. USDA, AMS, Dairy Grading Branch is the designated agency for issuing sanitary certificates for dairy products in the United States. Exporters must request export certificates from USDA, AMS, Dairy Grading Branch if the importing country requires them.

Need and Use of the Information: In order for AMS to provide the required information on the export sanitary certificates it must collect the information from the exporter. The information required on the sanitary certificates varies from country to country requiring specific forms for each country to collect the information. Such information includes: Identity of the importer and exporter, to describe consignment specifics, and identify border entry point at the country of destination. There are currently 16 different export certificate request forms with ongoing negotiations with at least 5 more countries on possible new sanitary certificates. The information gathered using these forms is only used to create the export sanitary certificate. There has been a change in the overall burden of this submission. The number of export certificate requests has increased significantly since 2012.

Estimate of Burden: Public reporting burden for this collection of information is estimated to average 0.20 hours per response.

Respondents: Businesses or other for-profit.

Estimated Number of Respondents: 250.

Estimated Total Annual Responses: 42,084.

Estimated Number of Responses per Respondent: 168.

Estimated Total Annual Burden on Respondents: 8,592 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Dana Coale, Office of the Deputy Administrator, USDA/AMS/Dairy Programs, Room 2968-S, 1400 Independence Avenue SW., Washington, DC 20090-6465; Tel: 202-720-4392, Fax: 202-690-3410 or via email at: dana.coale@ams.usda.gov.

All comments received will be available for public inspection during regular business hours at the same address.

All responses to this notice will be summarized and included in the request for OMB approval. All comments will become a matter of public record.

Dated: August 3, 2015.
Rex A. Barnes,
Associate Administrator, Agricultural Marketing Service.

[FR Doc. 2015-19327 Filed 8-11-15; 8:45 am]

BILLING CODE 3410-02-P